DEPARTMENT OF COMMERCE

National Institute of Standards and Technology

Proposed Information Collection; Comment Request; Manufacturing Extension Partnership (MEP) Program Evaluation Survey

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506 (2)(A)).

DATES: Written comments must be submitted on or before June 17, 2002.

ADDRESSES: Direct written comments to Madeleine Clayton, Departmental Paperwork Clearance Officer, Department of Commerce, Room 6608, 14th and Constitution Avenue, NW., Washington, DC 20230, (202) 482-3129 (or via the Internet at MClayton@doc.gov).

FOR FURTHER INFORMATION CONTACT: Requests for additional information or copies of the information collection instrument(s) and instructions should be directed to Karen Lellock, National Institute of Standards and Technology, Manufacturing Extension Partnership, 100 Bureau Drive, Stop 4800, Gaithersburg, MD 20899-4800, (301) 975-4269 (phone) and (301) 926-3787 (fax).

SUPPLEMENTARY INFORMATION:

I. Abstract

This collection of information sponsored by National Institute of Standards and Technology (NIST), the Manufacturing Extension Partnership (MEP) is a national network of locally based manufacturing extension centers working with small manufacturers to help them improve their productivity, improve profitability and enhance their economic competitiveness.

Obtaining specific information from clients about the impact of MEP services is essential for NIST officials to evaluate program strengths and weaknesses and plan improvements in program effectiveness and efficiency. This information is not available from existing programs or other sources.

II. Method of Collection

Clients have three options for completing the survey including Computer Assisted Telephone (CATI), Interactive Voice Response (IVR) or via the Internet.

III. Data

OMB Number: 0693-0029.

Form Number: None.

Type of Review: Regular submission.

Affected Public: Business or other for-profit organizations.

Estimated Number of Respondents: 6,500.

Estimated Time Per Response: 10 minutes.

Estimated Total Annual Burden Hours: 1,083.

Estimated Total Annual Cost to the Public: $0.

IV. Request for Comments

Comments are invited on: (a) Whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents.

Comments submitted in response to this notice will be summarized and/or included in the request for OMB approval of this information collection; they will also become a matter of public record.

Dated: April 11, 2002
Madeleine Clayton,
Deparmental Paperwork Clearance Officer, Officer of the Chief Information Officer.

[FR Doc. 02-9240 Filed 4-16-02; 8:45 am]

BILLING CODE 3510-13-P